FEDERAL COMMUNICATIONS COMMISSION

47 CFR Part 73

[DA 24-241; FR ID 209156]

Radio Broadcasting Services; Various Locations

AGENCY: Federal Communications Commission.

ACTION: Final rule.

SUMMARY: This document amends the Table of FM Allotments, of the Federal Communications Commission's (Commission) rules, by reinstating certain channels as a vacant FM allotment in various communities. The FM allotments were previously removed from the FM Table because a construction permit and/or license was granted. These FM allotments are now considered vacant because of the cancellation of the associated FM authorizations or the dismissal of long-form auction FM applications. A staff engineering analysis confirms that all of the vacant FM allotments complies with the Commission's regulations. The window period for filing applications for these vacant FM allotments will not be opened at this time. Instead, the issue of opening these allotments for filing will be addressed by the Commission in subsequent order.

DATES: Effective March 22, 2024.

FOR FURTHER INFORMATION CONTACT: Rolanda F. Smith, Media Bureau, (202) 418-2700.

SUPPLEMENTARY INFORMATION: This is a synopsis of the Commission's Order, adopted March 12, 2024, and released March 12, 2024. The full text of this Commission decision is available online at https://apps.fcc.gov/ecfs/. The full text of this document can also be downloaded in Word or Portable Document Format (PDF) at https://www.fcc.gov/edocs. This document does not contain information collection requirements subject to the Paperwork Reduction Act of 1995, Public Law 104-13. The Commission will not send a copy of the Order in a report to be sent to Congress and the Government Accountability Office pursuant to the Congressional Review Act, see 5 U.S.C. 801(a)(1)(A), because these allotments were previously reported.

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), amend the Table of FM Allotments by:

a. Adding the entry for “North English” in alphabetical order under Iowa;

b. Adding the entry for “Colfax” in alphabetical order under Louisiana;

c. Adding the entry for “Calhoun City” in alphabetical order under Mississippi;

d. Adding the entry for “Battle Mountain” in alphabetical order under Nevada;

e. Under Oregon:

i. Revising the entry for “Huntington”; and

ii. Adding entries for “Independence” and “Monument” in alphabetical order;

f. Adding the entry for “Murdo” in alphabetical order under South Dakota;

g. Adding the entry for “Selmer” in alphabetical order under Tennessee; and

h. Adding the entries for “Camp Wood,” “Cotulla,” “Los Ybanez,” “Ozona,” and “Stamford” in alphabetical order under Texas.

The additions and revision read as follows:

§ 73.202 Table of Allotments.

* * * * *

(b) * * *

Table 1 to Paragraph (b)
U.S. States | Channel No.
* * * * *
Iowa
* * * * *
North English | 246A
* * * * *
Louisiana
Colfax | 267A
* * * * *
Mississippi
* * * * *
Calhoun City | 272A
* * * * *
Nevada
Battle Mountain | 253C2
* * * * *
Oregon
* * * * *
Huntington | 228C1, 294C1
Independence | 274C0
Monument | 280C3
* * * * *
South Dakota
* * * * *
Murdo | 265A
Tennessee
* * * * *
Selmer | 288A
Texas
* * * * *
Camp Wood | 251C3
* * * * *
Cotulla | 289A
* * * * *
Los Ybanez | 253C2
* * * * *
Ozona | 275A
* * * * *
Stamford | 233A
* * * * *

[FR Doc. 2024-05941 Filed 3-21-24; 8:45 am]

BILLING CODE 6712-01-P